DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. Law 92-463; 5 U.S.C. APP. 1), notice is hereby given of an open meeting of the Advisory Committee on Apprenticeship (ACA).

Time and Date: The meeting will begin at approximately 1 p.m. on Monday, November 27, 2006, and continue until approximately 4:30 p.m. The meeting will reconvene at approximately 8:30 a.m. on Tuesday, November 28, 2006, and continue until approximately 4:30 p.m. The meeting will reconvene at approximately 8:30 a.m. on Wednesday, November 29, and adjourn at approximately 12 p.m.

Place: Capital Hilton, 1001 16th Street, NW., Washington, DC 20036, (202) 393-1000.

The agenda is subject to change due to time constraints and priority items which may come before the Committee between the time of this publication and the scheduled date of the ACA meeting.

FOR FURTHER INFORMATION CONTACT: Mr. Anthony Swoope, Administrator, Office of Apprenticeship, U.S. Department of Labor, Room N-5311, 200 Constitution Avenue, NW., Washington, DC 20210. Telephone: (202) 693-2796 (this is not a toll-free number).

Matters To Be Considered

The agenda will focus on the following topics:

• Departmental strategies to continue expanding the National Apprenticeship System in the 21st century workforce.

• Status of the ACA's Recommendations to the Secretary.

• ACA Accomplishments 2005-2007.

• Future Expansion of Apprenticeship in High Growth Occupations.

• Past, Present, and Future of Apprenticeship.

• Apprenticeship Integration with Workforce Investment Act (WIA) System.

Status

Members of the public are invited to attend the proceedings. Individuals with disabilities should contact Ms. Kenya Huckaby at (202) 693-3795 no later than Monday, November 20, 2006, if special accommodations are needed.

Any member of the public who wishes to file written data or comments pertaining to the agenda may do so by sending the data or comments to Mr. Anthony Swoope, Administrator, Office of Apprenticeship, U.S. Department of Labor, Room N-5311, 200 Constitution Avenue, NW., Washington, DC 20210. Such submissions should be sent by Monday, November 20, 2006, to be included in the record for the meeting.

Any member of the public who wishes to speak at the meeting should indicate the nature of the intended presentation and the amount of time needed by furnishing a written statement to the Designated Federal Official, Mr. Anthony Swoope, by Monday, November 20, 2006. The Chairperson will announce at the beginning of the meeting the extent to which time will permit the granting of such requests.

Signed at Washington, DC, this 31st day of October 2006.
Emily Stover DeRocco,
Assistant Secretary for Employment and Training Administration.

[FR Doc. E6-18642 Filed 11-2-06; 8:45 am]

BILLING CODE 4510-30-P